DEPARTMENT OF THE INTERIOR

Bureau of Reclamation

Adjustment of the Amount of an Administrative Costs Assessment

AGENCY: Bureau of Reclamation, Interior.

ACTION: Notice of adjustment of the amount of an administrative costs assessment (43 CFR 426.20[e]).

SUMMARY: The Bureau of Reclamation (Reclamation, we, our, or us) is increasing the amount of the administrative costs assessment set forth in the Acreage Limitation Rules and Regulations (Regulations), 43 CFR part 426. Section 426.20(e) of the Regulations requires us to periodically review the amount of the administrative costs we incur as a result of certain Reclamation Reform Act of 1982 (RRA) forms and excess land problems and, if needed, adjust the amount of the assessment to reflect new cost data. Based on our latest review of the associated costs, the current $260 administrative costs assessment is being increased to $290.

DATES: The increase in the amount of the administrative costs assessment to $290 becomes effective on January 1, 2004. See the last paragraph in the Supplementary Information section for more details regarding application of the new amount of the assessment.

FOR FURTHER INFORMATION CONTACT: Bureau of Reclamation, Office of Program and Policy Services, Attention: D-5200, P.O. Box 25007, Denver, Colorado 80225.

SUPPLEMENTARY INFORMATION: Background: Section 426.20 of the Regulations provides that we will assess districts administrative costs if: (1) A district delivers Reclamation irrigation water to land that was ineligible because a landholder did not submit certification or reporting forms to the district prior to receipt of the water; (2) a district does not provide us with corrected landholder certification or reporting forms within 60 calendar days of our request for corrections; or (3) a district delivers Reclamation irrigation water to ineligible excess land. Section 426.20(e) sets the amount of the administrative fee at $260. The amount is based on the additional costs we incur to perform activities to address the problems described in the first sentence of this paragraph. Section 426.20(e) further provides that we will review the associated costs at least once every 5 years and adjust the assessment amount, if needed, to reflect new cost data.

Review Periods: The regulatory provisions for the administrative costs assessment became effective on March 27, 1995. In 2000, we reviewed the cost data for 1995-1999 and determined that the amount of the assessment should remain at $260. In July 2003, we reviewed the cost data for 2000-2002 and determined that the amount of the assessment needs to be increased by $30, to $290. In 2006, we will review the cost data for 2003-2005 and determine if the amount of the administrative costs assessment needs to be adjusted again.

Application of the New Administrative Costs Assessment: The new amount of the administrative costs assessment becomes effective on January 1, 2004. However, application will be based on the date Reclamation actually finds and documents the forms or excess land problem in question. More specifically, if after January 1, 2004, we find a forms or excess land problem described in 43 CFR 426.20, the amount of the administrative costs assessment will be $290. This will be the case even if the problem occurred prior to January 1, 2004. For problems we find prior to January 1, 2004, the amount of the administrative costs assessment will remain at $260.

Dated: October 31, 2003.
Roseann Gonzales,
Acting Deputy Director, Office of Program and Policy Services.

[FR Doc. 03-30417 Filed 12-8-03; 8:45 am]

BILLING CODE 4310-MN-P